NATIONAL SCIENCE FOUNDATION

Agency Information Collection Activities: Comment Request: NSF Research Experience and Mentoring Survey

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by November 12, 2024 to be assured consideration. Comments received after that date will be considered to the extent practicable. Send comments to address below.

FOR FURTHER INFORMATION CONTACT: Suzanne H. Plimpton, Reports Clearance Officer, National Science Foundation, 2415 Eisenhower Avenue, Room E6447, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: NSF Research Experience and Mentoring Survey.

OMB Number: 3145-0261.

Expiration Date of Approval: November 30, 2024.

Type of Request: Intent to seek approval to renew an information collection.

Abstract: The Research Experience and Mentoring (REM) Program supports the active involvement of research participants (RPs) that include high school students, Science, Technology, Engineering and Mathematics (STEM) teachers, undergraduate STEM students, faculty, and veterans, in hands-on research in order to bring participants into contact with STEM mentors and expose them to a summer research experience. Research participants are recruited as cohorts in order to facilitate mentoring and research activities, community building, and provide mutual student support.

The main goals of the REM Program are to provide research experiences and mentored opportunities to STEM students and/or educators that may ultimately enhance their career and academic trajectories while enhancing NSF research projects by the Emerging Frontiers in Research and Innovation (EFRI) program, the Engineering Research Centers (ERC), and the Industry-University Cooperative Research Centers (IUCRC). The REM Program may also enable the building of long-term collaborative partnerships among EFRI-,ERC-, and ICUCR-supported researchers, community colleges, local four-year colleges, and local school districts.

A REM supplement of maximum of $110,000 over a 1-year period. Activities that are innovative and site-specific are encouraged. Effective REM programs typically have many of the following characteristics, which are provided here as general guidelines: mentorship training for researchers and affiliated graduate students or postdoctoral researchers; well-designed, introductory training for RPs; six to ten weeks of summer research (full time); continued mentorship of RPs throughout the academic year; participation of RPs in research team meetings and topic-related conferences or workshops; and guidance for RPs in co-authoring publications and/or posters.

NSF is requesting OMB approval for the REM program to collect information from past and present research participants and mentors. The REM program seeks to collect data from research participants and mentors to: (1) inform REM programming (e.g., to identify areas of growth); and (2) conduct retrospective analysis of the REM program to assess the success of REM historically.

Use of the Information: The information collected is primarily for the use of the NSF REM program to assess the success of the program and for informing decisions NSF will make regarding future programming and support provided to research participants.

Estimate burden on the public: Estimated at 180 hours for a one-time collection.

Respondents: All REM research participants and mentors will be invited to respond to the survey. The REM research participants include high school students, STEM teachers, undergraduate STEM students, faculty, and veterans.

Estimated number of respondents: 540 (representing a 60% response rate).

Average Time per Reporting: The online survey is comprised primarily of closed-ended questions and is designed to be completed by respondents in under 20 minutes.

Frequency: One-time collection.

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Please submit one copy of your comments by only one method. All submissions received must include the agency name and collection name identified above for this information collection. Commenters are strongly encouraged to transmit their comments electronically via email. Comments, including any personal information provided become a matter of public record. They will be summarized and/or included in the request for Office of Management and Budget approval of the information collection request.

Dated: September 6, 2024.
Suzanne H. Plimpton,
Reports Clearance Officer, National Science Foundation.

[FR Doc. 2024-20606 Filed 9-10-24; 8:45 am]

BILLING CODE 7555-01-P